ENVIRONMENTAL PROTECTION AGENCY

[FRL-7643-4]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 1673.04; Reporting and Recordkeeping Requirements for Importation of Nonconforming Nonroad Compression Ignition (CI) and Small Spark Ignition (SI) Engines; in 40 CFR part 89, subpart G; was approved 2/19/2004; OMB Number 2060-0294; expires 02/28/2007.

EPA ICR No. 1066.04; NSPS for Ammonium Sulfate Manufacture; in 40 CFR part 40, subpart PP); was approved 02/20/2004; OMB Number 2060-0032; expires 02/28/2007.

EPA ICR No. 1160.07; NSPS for Wool Fiberglass Insulation Manufacturing Plants; in 40 CFR part 60, subpart PPP and NESHAP for Wool Fiberglass Manufacturing Plants; in 40 CFR part 63, subpart NNN; was approved 02/20/2004; OMB Number 2060-0114; expires 02/28/2007.

EPA ICR No. 0877.08; Environmental Radiation Ambient Monitoring System (ERAMS); was approved 2/19/2004; OMB Number 2060-0015; expires 02/28/2007.

EPA ICR No. 1064.10; NSPS for Automobile and Light Duty Truck Surface Coating Operations; in 40 CFR part 60, subpart MM; was approved 02/19/2004; OMB Number 2060-0034; expires 02/28/2007.

EPA ICR No. 1157.07; NSPS for Flexible Vinyl and Urethane Coating and Printing; in 40 CFR part 60, subpart FFF; was approved 02/19/2004; OMB Number 2060-0073; expires 02/28/2007.

EPA ICR No. 1718.04; Recordkeeping and Reporting Requirements for the Fuel Quality Regulations for Diesel Fuel Sold in 2001 and Later Years (Final Rule); in 40 CFR part 80, was approved 02/05/2004; OMB Number 2060-0308; expires 09/30/2004.

EPA ICR No. 0658.08; NSPS for Pressure Sensitive Tape and Label Surface Coating; in 40 CFR part 60, subpart RR; was approved 02/05/2004; OMB Number 2060-0004; expires 02/28/2007.

EPA ICR No. 2060.02; Cooling Water Intake Structures Phase II Existing Facility (Final Rule); in 40 CFR 122.21(d)(2), 122.21(r)(2,3,5), 122.21(r)(2)(i-iii), 122.21(r)(3)(i-v), 122.21(r)(5)(i-ii), and 40 CFR 125.94-125.98; was approved 02/17/2004; OMB Number 2040-0257; expires 02/28/2007.

EPA ICR No. 1765.03; Reporting and Recordkeeping Requirements for National Volatile Organic Compound Emission Standards for Automobile Refinish Coatings; in 40 CFR part 59, subpart B; was approved 03/03/2004; OMB Number 2060-0353; expires 03/31/2007.

EPA ICR No. 1715.05; TSCA Section 402 and Section 404 Training and Certification, Accreditation and Standards for Lead Based Paint Activities (Final Notification); was approved 03/09/2004; OMB Number 2070-0155; expires 08/31/2004.

Short Term Extensions

EPA ICR No. 1250.06; Request for Contractor Access to TSCA Confidential Business Information; OMB Number 2070-0075; on 02/24/2004; OMB extended the expiration date to 05/31/2004.

EPA ICR No. 1427.06; National Pollutant Discharge Elimination System (NPDES) Compliance Assessment/Certification Information; OMB Number 2040-0110; on 02/26/2004 OMB extended the expiration date to 5/31/2004.

Dated: March 24, 2004.
Oscar Morales,
Director, Collection Strategies Division.

[FR Doc. 04-7779 Filed 4-5-04; 8:45 am]

BILLING CODE 6560-50-P